NUCLEAR REGULATORY COMMISSION

[NRC-2008-0096]

Notice of Issuance of Regulatory Guide

AGENCY: Nuclear Regulatory Commission.

ACTION: Notice of Issuance and Availability of Regulatory Guide 4.1, Revision 2.

FOR FURTHER INFORMATION CONTACT: Steven Garry, U.S. Nuclear Regulatory Commission, Washington, DC 20555-0001, telephone (301) 415-2766 or e-mail Steven.Garry@nrc.gov.

SUPPLEMENTARY INFORMATION:

I. Introduction

The U.S. Nuclear Regulatory Commission (NRC) is issuing a revision to an existing guide in the agency's “Regulatory Guide” series. This series was developed to describe and make available to the public information such as methods that are acceptable to the NRC staff for implementing specific parts of the agency's regulations, techniques that the staff uses in evaluating specific problems or postulated accidents, and data that the staff needs in its review of applications for permits and licenses.

Revision 2 of Regulatory Guide 4.1, “Radiological Environmental Monitoring for Nuclear Power Plants,” was issued with a temporary identification as Draft Regulatory Guide, DG-4013. This guide describes a method that the staff of the NRC considers acceptable for use in establishing and conducting an environmental monitoring program at nuclear power plants. The guide describes programs for preoperational and operational environmental monitoring.

II. Further Information

In November 2008, DG-4013 was published with a public comment period of 60 days from the issuance of the guide. The public comment period closed on January 30, 2009. The staff's responses to the comments received are located in the NRC's Agencywide Documents Access and Management System under accession number ML091310156. Electronic copies of Regulatory Guide 4.1, Revision 2 are available through the NRC's public Web site under “Regulatory Guides” at http://www.nrc.gov/reading-rm/doc-collections/.

In addition, regulatory guides are available for inspection at the NRC's Public Document Room (PDR) located at Room O-1F21, One White Flint North, 11555 Rockville Pike, Rockville, Maryland 20852-2738. The PDR's mailing address is USNRC PDR, Washington, DC 20555-0001. The PDR can also be reached by telephone at (301) 415-4737 or (800) 397-4209, by fax at (301) 415-3548, and by e-mail to pdr.resource@nrc.gov.

Regulatory guides are not copyrighted, and NRC approval is not required to reproduce them.

Dated at Rockville, MD, this 12th day of June 2009.
For the Nuclear Regulatory Commission.
Richard A. Jervey,
Acting Chief, Regulatory Guide Development Branch, Division of Engineering, Office of Nuclear Regulatory Research.

[FR Doc. E9-14421 Filed 6-18-09; 8:45 am]

BILLING CODE 7590-01-P